DEPARTMENT OF ENERGY

Federal Energy Regulatory Commission

Combined Notice of Filings #1

Take notice that the Commission received the following exempt wholesale generator filings:

Docket Numbers: EG18-85-000.

Applicants: Pegasus Wind, LLC.

Description: Notice of Self-Certification of Exempt Wholesale Generator Status of Pegasus Wind, LLC.

Filed Date: 5/11/18.

Accession Number: 20180511-5115.

Comments Due: 5 p.m. ET 6/1/18.

Docket Numbers: EG18-86-000.

Applicants: Thunder Spirit Wind, LLC.

Description: Self-Certification of EG or FC of Thunder Spirit Wind, LLC.

Filed Date: 5/11/18.

Accession Number: 20180511-5193.

Comments Due: 5 p.m. ET 6/1/18.

Take notice that the Commission received the following electric rate filings:

Docket Numbers: ER10-1437-006.

Applicants: Tampa Electric Company.

Description: Second Supplement to June 30, 2017 Triennial Market Power Update for the Southeast Region [Asset Appendix] of Tampa Electric Company.

Filed Date: 5/10/18.

Accession Number: 20180510-5212.

Comments Due: 5 p.m. ET 5/31/18.

Docket Numbers: ER10-2507-016.

Applicants: Westar Energy, Inc.

Description: Notice of Non-Material Change in Status of Westar Energy, Inc.

Filed Date: 5/11/18.

Accession Number: 20180511-5162.

Comments Due: 5 p.m. ET 6/1/18.

Docket Numbers: ER13-136-004; ER13-135-004; ER13-137-004; ER13-138-004; ER13-141-004; ER13-142-004.

Applicants: Georgia-Pacific Brewton LLC.

Description: Supplement to December 19, 2017 Triennial Market-Power Analyses of the Georgia-Pacific Entities in the Southeast Region.

Filed Date: 5/11/18.

Accession Number: 20180511-5163.

Comments Due: 5 p.m. ET 6/1/18.

Docket Numbers: ER18-1386-001.

Applicants: Southern California Edison Company.

Description: Tariff Amendment: Amended LGIA Desert Harvest Revised ITCC to be effective 4/19/2018.

Filed Date: 5/10/18.

Accession Number: 20180510-5149.

Comments Due: 5 p.m. ET 5/31/18.

Docket Numbers: ER18-1569-000.

Applicants: Emera Maine.

Description: Compliance filing: Order No. 842 Compliance to be effective 5/15/2018.

Filed Date: 5/11/18.

Accession Number: 20180511-5021.

Comments Due: 5 p.m. ET 6/1/18.

Docket Numbers: ER18-1570-000.

Applicants: NorthWestern Corporation.

Description: Compliance filing: Order No. 842 Compliance Filing—Montana OATT to be effective 5/15/2018.

Filed Date: 5/11/18.

Accession Number: 20180511-5023.

Comments Due: 5 p.m. ET 6/1/18.

Docket Numbers: ER18-1571-000.

Applicants: ISO New England Inc.

Description: ISO New England Inc. submits First Quarter 2018 Capital Budget Report.

Filed Date: 5/10/18.

Accession Number: 20180510-5218.

Comments Due: 5 p.m. ET 5/31/18.

Docket Numbers: ER18-1572-000.

Applicants: Southwest Power Pool, Inc.

Description: § 205(d) Rate Filing: 3446 Group NIRE/SPS Facilities Construction Agreement to be effective 7/10/2018.

Filed Date: 5/11/18.

Accession Number: 20180511-5043.

Comments Due: 5 p.m. ET 6/1/18.

Docket Numbers: ER18-1573-000.

Applicants: Erie Power, LLC.

Description: Tariff Cancellation: Notice of cancellation—July 13 2018 to be effective 7/13/2018.

Filed Date: 5/11/18.

Accession Number: 20180511-5069.

Comments Due: 5 p.m. ET 6/1/18.

Docket Numbers: ER18-1574-000.

Applicants: NSTAR Electric Company.

Description: § 205(d) Rate Filing: Related Facilities Agreement between NSTAR Electric Co. and Milford Power, LLC to be effective 4/30/2018.

Filed Date: 5/11/18.

Accession Number: 20180511-5076.

Comments Due: 5 p.m. ET 6/1/18.

Docket Numbers: ER18-1575-000.

Applicants: NorthWestern Corporation.

Description: Compliance filing: Order No. 842 Compliance Filing—South Dakota OATT to be effective 5/15/2018.

Filed Date: 5/11/18.

Accession Number: 20180511-5077.

Comments Due: 5 p.m. ET 6/1/18.

Docket Numbers: ER18-1576-000.

Applicants: Southern California Edison Company.

Description: § 205(d) Rate Filing: Unexecuted GIA & Distrib Serv Agmt LACFCD—San Gabriel Dam Hydroelectric Plant to be effective 5/1/2018.

Filed Date: 5/11/18.

Accession Number: 20180511-5164.

Comments Due: 5 p.m. ET 6/1/18.

Docket Numbers: ER18-1577-000.

Applicants: Thunder Spirit Wind, LLC.

Description: Baseline eTariff Filing: Market-Based Rate Application to be effective 5/14/2018.

Filed Date: 5/11/18.

Accession Number: 20180511-5184.

Comments Due: 5 p.m. ET 6/1/18.

Docket Numbers: ER18-1578-000.

Applicants: PJM Interconnection, L.L.C.

Description: § 205(d) Rate Filing: Revisions to OATT Sch. 12—Appx A re: RTEP Projects Approved by April 2018 to be effective 8/9/2018.

Filed Date: 5/11/18.

Accession Number: 20180511-5210.

Comments Due: 5 p.m. ET 6/1/18.

Docket Numbers: ER18-1579-000.

Applicants: Western Interconnect LLC.

Description: § 205(d) Rate Filing: Revised LGIA with Grady Wind Energy to be effective 7/10/2018.

Filed Date: 5/11/18.

Accession Number: 20180511-5211.

Comments Due: 5 p.m. ET 6/1/18.

Take notice that the Commission received the following electric securities filings:

Docket Numbers: ES18-38-000.

Applicants: MidAmerican Energy Company.

Description: Application under Section 204 of the Federal Power Act for Authorization to Issue and Sell Debt Securities of MidAmerican Energy Company.

Filed Date: 5/10/18.

Accession Number: 20180510-5221.

Comments Due: 5 p.m. ET 5/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2018.
Nathaniel J. Davis, Sr.,
Deputy Secretary.

[FR Doc. 2018-10535 Filed 5-16-18; 8:45 am]

BILLING CODE 6717-01-P